DEPARTMENT OF HOMELAND SECURITY

Coast Guard

[Docket No. USCG-2019-0131]

Port Access Route Study: The Areas Offshore of Massachusetts and Rhode Island

AGENCY: Coast Guard, DHS.

ACTION: Notice of study and public meetings; request for comments.

SUMMARY: In order to provide safe access routes for the movement of vessel traffic offshore of the Massachusetts and Rhode Island area of the United States for vessels proceeding to or from ports or places of the United States and transiting within the United States Exclusive Economic Zone (EEZ), the Coast Guard is conducting a Massachusetts and Rhode Island Port Access Route Study (MARIPARS) to evaluate the need for establishing vessel routing measures. The information gathered during this MARIPARS may result in the establishment of one or more vessel routing measures. The goal of the MARIPARS is to enhance navigational safety by examining existing shipping routes and waterway uses. The recommendations of the study may lead to future rulemaking action or appropriate international agreements.

DATES: Comments and related material must be received by the Coast Guard on or before May 28, 2019. Two public meetings will be held to provide an opportunity for comments about the MARIPARS on Tuesday, April 23, 2019, from 6 p.m. to 9 p.m. and on Thursday, April 25, 2019, from 6 p.m. to 9 p.m. Written comments and related material may also be submitted to Coast Guard personnel at the meetings. All comments and related material submitted after the meetings must be received by the Coast Guard on or before May 28, 2019. Commenters should be aware that the electronic Federal Docket Management System will not accept comments after midnight Eastern Daylight Time on the last day of the comment period.

ADDRESSES: You may submit comments identified by docket number USCG-2019-0131 using the Federal eRulemaking Portal at http://www.regulations.gov. See the “Public Participation and Request for Comments” portion of the SUPPLEMENTARY INFORMATION section for further instructions on submitting comments.

The public meeting on Tuesday, April 23, 2019, from 6 p.m. to 9 p.m., will be held at Corless Auditorium (Watkins Laboratory Building), University of Rhode Island, Graduate School of Oceanography at 215 South Ferry Road, Narragansett, RI 02882-1197.

The public meeting on Thursday, April 25, 2019, from 6 p.m. to 9 p.m., will be held at Flanagan Hall, Massachusetts Maritime Academy at 101 Academy Drive, Buzzards Bay, MA 02532.

FOR FURTHER INFORMATION CONTACT: If you have questions about this notice or study call or email the Project Officer, Mr. Edward G. LeBlanc, Chief of Coast Guard Sector Southeastern New England Waterways Management Division, telephone (401) 435-2351; email Edward.G.LeBlanc@uscg.mil.

SUPPLEMENTARY INFORMATION:

I. Public Participation and Request for Comments

We encourage you to participate in this study by submitting comments and related materials to the online public docket or orally at the public meetings. All comments received will be posted, without change, to http://www.regulations.gov and will include any personal information you have provided.

A. Submitting Comments: If you submit comments to the online public docket, please include the docket number for this rulemaking (USCG-2019-0131), indicate the specific section of this document to which each comment applies, and provide a reason for each suggestion or recommendation. We accept anonymous comments.

To submit your comment online, go to http://www.regulations.gov, and insert “USCG-2019-0131” in the “search box.” Click “Search”. Then click “Comment Now.” We will consider all comments and material received during the comment period.

B. Public Meetings: We plan to hold two public meetings to receive oral comments on this notice. If you bring written comments to the public meeting, you may submit them to Mr. Edward G. LeBlanc. These comments will be added to our online public docket. We recommend that you include your name and a mailing address, an email address, or a telephone number in the body of your document so that we can contact you if we have questions regarding your submission. Attendance at the public meeting is not required. We will provide a written summary of the oral comments received and will place that summary in the docket.

The first public meeting on Tuesday, April 23, 2019, from 6 p.m. to 9 p.m., will be held at Corless Auditorium (Watkins Laboratory Building), University of Rhode Island, Graduate School of Oceanography, 215 South Ferry Road, Narragansett, RI 02882-1197.

The second public meeting on Thursday, April 25, 2019, from 6 p.m. to 9 p.m., will be held at Flanagan Hall, Massachusetts Maritime Academy, 101 Academy Drive, Buzzards Bay, MA 02532.

For information on facilities or services for individuals with disabilities or to request special assistance at the public meeting, contact Mr. Edward Leblanc at the telephone number or email address indicated under the FOR FURTHER INFORMATION CONTACT section of this notice.

C. Viewing the comments and documents: To view the comments and documents mentioned in this preamble as being available in the docket, go to http://www.regulations.gov, click on the “read comments” box, which will then become highlighted in blue. In the “Keyword” box insert “USCG-2019-0131” and click “Search.” Click the “Open Docket Folder” in the “Actions” column.

D. Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316) https://www.federalregister.gov/documents/2008/01/17/E8-785/privacy-act-of-1974-system-of-records.

II. Purpose and Background

A. Requirement for Port Access Route Studies: Under 46 U.S.C. 70003 the Commandant of the Coast Guard may designate necessary fairways and traffic separation schemes (TSSs) to provide safe access routes for vessels proceeding to and from U.S. ports. The designation of fairways and TSSs recognizes the paramount right of navigation over all other uses in the designated areas.

Before establishing or adjusting fairways or TSSs, 46 U.S.C. 70003 requires the Coast Guard to conduct a port access route study (PARS), i.e. a study of potential traffic density and the need for safe access routes for vessels. Through the study process, we must coordinate with Federal, State, and foreign state agencies (as appropriate) and consider the views of maritime community representatives, environmental groups, and other interested stakeholders. A primary purpose of this coordination is, to the extent practicable, to reconcile the need for safe access routes with other reasonable waterway uses such as construction and operation of renewable energy facilities and other uses of the Atlantic Ocean in the study area.

B. Previous port access route studies: In 2011, the Coast Guard conducted a PARS which focused on the entire Atlantic Coast from Maine to Florida to analyze all vessel traffic proceeding to and from all Atlantic Coast ports and transiting through the United States Exclusive Economic Zone (EEZ). The Atlantic Coast Port Access Route Study Final Report is available at the Coast Guard Navigation Center website https://navcen.uscg.gov/pdf/PARS/ACPARS_Final_Report_08Jul2015_Combined_Appendix_Enclosures_Final_After_LMI_Review.pdf.

C. Necessity for a new port access route study: The Bureau of Ocean Energy Management (BOEM) has leased seven adjacent areas of the outer continental shelf (OCS) south of Martha's Vineyard and east of Rhode Island that together constitute the MA/RI Wind Energy Area (WEA). Potentially seven distinct offshore renewable energy installations (“wind farms”) could be constructed, each with its own number, size, type of wind turbines, and distinct turbine layout. The topic of safe navigation routes to facilitate vessel transit through the MA/RI WEA has been discussed at various forums throughout southeastern New England. The forums have included participation by the Coast Guard, other federal, state, and local agencies, fishing industry representatives, and a myriad of stakeholders. Various different transit plans have been proposed through these different forums.

In September 2018, the Massachusetts Coastal Zone Management Fisheries Working Group offered a vessel transit layout as depicted at https://www.mass.gov/service-details/fisheries-working-group-on-offshore-wind-energy and below:

In December 2018, the Responsible Offshore Development Alliance (RODA), https://www.rodafisheries.org/, offered an alternative layout for consideration by stakeholders:

Though neither of these alternatives achieved consensus of all stakeholders, they serve as a basis for further discussion of the issue and are provided here for that purpose. Comments on these alternative proposals are welcome, but comments need not be limited to them.

III. This PARS: Timeline, Study Area, and Process

The First Coast Guard District Waterways Management Division and Coast Guard Sector Southeastern New England Waterways Management Division will conduct this PARS. The study will begin upon publication of this notice and should take approximately six months to complete.

The study area is described as an area bounded by a line connecting the following geographic positions:

• 41°20′ N, 070°00′ W;

• 40°35′ N, 070°00′ W;

• 40°35′ N, 071°15′ W;

• 41°20′ N, 071°15′ W.

Below is an illustration showing the study area.

The Coast Guard will use the PARS process described in Appendix D to Commandant Instruction 16003.2A, Marine Planning to Operate and Maintain the National Marine Transportation System (MTS) and Implement National Policy, which is available in the docket or see https://media.defense.gov/2017/Mar/15/2001716995/-1/-1/0/CI_16003_2A.PDF, as a guide.

IV. Possible Scope of the Recommendations

We are attempting to determine what, if any, navigational safety concerns exist with vessel transits in the study area. We expect that information gathered during the study will help us identify anticipated impacts to navigation that may be experienced by mariners intending to transit in, around and through the study area which includes the MA/RI Wind Energy Area (MA/RI WEA) which is an area of wind farm leases south of Martha's Vineyard. All leases are currently being studied for development including the construction of wind energy generating turbines affixed to the sea floor. These installations could impact routes used to access ports (e.g., transiting from Georges Bank through the MA/RI WEA to New Bedford; or from the vicinity of Montauk, NY/Point Judith, RI, to Georges Bank, etc.). Impacts could result from factors such as number, size, type, and layout of wind farm turbines and electric service platform(s), subsea cabling, increased vessel traffic, changing vessel traffic patterns, weather conditions, or navigational difficulty. Comments should include or reference data (both empirical and anecdotal) where available, published studies (academic, government, or industry), and other supporting documentation.

As part of this study, we may collect and analyze data and other information on vessel traffic characteristics and trends in an attempt to balance the needs of all waterway users.

This MARIPARS includes the following objectives:

1. Determine present vessel traffic types, patterns, and density;

2. Determine potential vessel traffic types, patterns, and density;

3. Determine if existing vessel routing measures are adequate;

4. Determine if existing vessel routing measures require modifications;

5. Determine the type of modifications;

6. Define and justify the needs for new vessel routing measures;

7. Determine the type of new vessel routing measures; and

8. Determine if the usage of the vessel routing measures must be mandatory for specific classes of vessels.

We will publish the results of the PARS in the Federal Register. It is possible the study may validate the status quo (no routing measures) and conclude that no changes are necessary. It is also possible the study may recommend one or more changes to enhance navigational safety and the efficiency of vessel traffic management. The recommendations may lead to future rulemakings or appropriate international agreements.

This notice is published under the authority of 46 U.S.C. 70004 and 5 U.S.C. 552(a).

Dated: March 21, 2019.
G. D. Case,
Captain, U.S. Coast Guard, Acting Commander, First Coast Guard District.

[FR Doc. 2019-05730 Filed 3-25-19; 8:45 am]

BILLING CODE 9110-04-P